DEPARTMENT OF COMMERCE

National Oceanic and Atmospheric Administration

[I.D. 080100A]

Marine Mammals; File No. 87-1593

AGENCY: National Marine Fisheries Service (NMFS), National Oceanic and Atmospheric Administration (NOAA), Commerce.

ACTION: Receipt of application.

SUMMARY: Notice is hereby given that Dr. Daniel P. Costa, Department of Biology, University of California, Santa Cruz, CA 95064, has applied in due form for a permit to take California sea lions (Zalophus californianus) for purposes of scientific research.

DATES: Written or telefaxed comments must be received on or before September 14, 2000.

ADDRESSES: The application and related documents are available for review upon written request or by appointment in the following office(s):

Permits and Documentation Division, Office of Protected Resources, NMFS, 1315 East-West Highway, Room 13130, Silver Spring, MD 20910 (301/713-2289); and

Regional Administrator, Southwest Region, NMFS, 501 West Ocean Blvd., Suite 4200, Long Beach, CA 90802 (562/980-4001).

FOR FURTHER INFORMATION CONTACT: Simona Roberts or Ruth Johnson, 301/713-2289.

SUPPLEMENTARY INFORMATION: The subject permit is requested under the authority of the Marine Mammal Protection Act of 1972, as amended (MMPA; 16 U.S.C. 1361 et seq.) and the Regulations Governing the Taking and Importing of Marine Mammals (50 CFR part 216).

The applicant requests authorization to take approximately 140 California sea lions annually over a five year period to examine the foraging ecology and energetics of all age and sex classes on all California rookeries. Types of takes proposed include: capture, anesthetize, tag, bleach mark, blood sample, administer doubly-labeled water, muscle biopsy, milk sample, instrument with TDRs and collect morphometric and metabolic measurements. To compare the ecology and energetics of California sea lions inhabiting California waters with California sea lions inhabiting the southern extreme of their range the applicant requests authorization to import blood and tissue samples of California sea lions from Mexico and Ecuador.

In compliance with the National Environmental Policy Act of 1969 (42 U.S.C. 4321 et seq.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: August 9, 2000.
Ann D. Terbush,
Chief, Permits and Documentation Division, Office of Protected Resources, National Marine Fisheries Service.

[FR Doc. 00-20684 Filed 8-14-00; 8:45 am]

BILLING CODE 3510-22-F